ENVIRONMENTAL PROTECTION AGENCY

40 CFR Part 52

[NC-96; 97-200231(a); FRL-7254-2]

Approval and Promulgation of Implementation Plans: North Carolina: Permitting Rules and Other Miscellaneous Revisions

AGENCY: Environmental Protection Agency (EPA).

ACTION: Direct final rule.

SUMMARY: EPA is approving a State Implementation Plan (SIP) revision submitted by the State of North Carolina, through the North Carolina Department of Environmental and Natural Resources (NCDENR), on April 16, 2001. These revisions include the adoption of rules 15A NCAC 2D .0611 through .0615, the amending of .0501, .0903 and multiple rules within Chapter .0600 Monitoring: Recordkeeping: Reporting, the adoption of rules 15A NCAC 2Q .0316 and .0317 and the amending of rules .0109, .0803 and .0805 through .0808. The purpose of these revisions is to make the revised regulations consistent with the requirements of the Clean Air Act as amended in 1990 (CAA).

DATES: This direct final rule is effective October 7, 2002, without further notice, unless EPA receives adverse comment by September 9, 2002. If adverse comment is received, EPA will publish a timely withdrawal of the direct final rule in the Federal Register and inform the public that the rule will not take effect.

ADDRESSES: All comments should be addressed to: Randy Terry at the EPA, Region 4 Air Planning Branch, 61 Forsyth Street, SW., Atlanta, Georgia 30303-8960.

Copies of the State submittal(s) are available at the following addresses for inspection during normal business hours:

Environmental Protection Agency, Region 4, Air Planning Branch, 61 Forsyth Street, SW., Atlanta, Georgia 30303-8960. Randy Terry, 404/562-9032.

North Carolina Department of Environment and Natural Resources, 512 North Salisbury Street, Raleigh, North Carolina 27604.

Forsyth County Environmental Affairs Department, 537 North Spruce Street, Winston-Salem, North Carolina 27101.

FOR FURTHER INFORMATION CONTACT: Randy B. Terry at 404/562-9032, or by electronic mail at terry.randy@epa.gov.

SUPPLEMENTARY INFORMATION:

I. Background

On April 16, the State of North Carolina, through the North Carolina Department of Environmental and Natural Resources (NCDENR), submitted revisions to the North Carolina SIP. These revisions include the adoption of rules 15A NCAC 2D .0611 through .0615, the amending of .0501, .0903 and multiple rules within Chapter .0600 Monitoring: Recordkeeping: Reporting, the adoption of rules 15A NCAC 2Q .0316 and .0317 and the amending of rules .0109, .0803 and .0805 through .0808. A detailed analysis of each of the major revisions submitted is listed below.

II. Analysis of North Carolina's Submittal

Subchapter 2D

2D .0501 Compliance With Emission Control Standards

This rule was amended to add detailed language to the cited ASTM methods and to eliminate the duplicative processing for the facilities with mixed control required to be permitted according to the requirements of title V of the CAA. Previously these facilities with mixed control were subject to the SIP process and the title V permitting process. Both processes involve the same amount of public participation. Both involve EPA review and approval. Under their previous process, there were two public comment periods and two EPA reviews for title V facilities with mixed control that decided to choose emission trading to meet the NOX SIP call requirements. These amendments simplify and streamline the emission trading process for title V facilities by requiring only one public hearing for both title V and SIP processes.

2D .0600 Monitoring: Recordkeeping: Reporting

This subchapter was amended for the following purposes:

(1) To resolve deficiencies that EPA has identified in the SIP.

(2) To write the requirements of 40 CFR part 51, appendix P in a more concise, precise, and readable form.

(3) To require that data collected for the purposes of showing compliance be quality assured data,

(4) To add rule to implement EPA's compliance assurance monitoring (CAM) requirements.

(5) To clearly delegate to the Director the authority to place monitoring, recordkeeping, and reporting requirements in permits of non-title V facilities.

2D .0903 Recordkeeping: Reporting: Monitoring

This rule was amended to delete specific recordkeeping and reporting requirements and add a reference to monitoring requirements in section 15A NCAC 2D .0600.

Subchapter 2Q

2Q .0109 Compliance Schedule for Previously Exempted Activities

This rule was amended to delete obsolete schedules for submitting permit applications for activities that have lost their permit exemptions.

2Q .0316 Administrative Permit Amendments

This rule was adopted to describe the administrative amendment process and define the types of changes that are administrative amendments.

2Q .0317 Avoidance Conditions

This rule was adopted to clarify that conditions can be placed in permits to avoid applicability of more restrictive rules. It gives the permittee a chance to choose a less expensive cost of operations by avoiding the applicability of certain rules.

2Q .0800 Exclusionary rules

This Subchapter was amended to require annual reports to be submitted by March 1, 2000, and to the regional supervisors of the appropriate Division regional office instead of the Director. These changes make tracking the report submittals easier.

III. Final Action

EPA is approving the aforementioned changes to the SIP because the revisions are consistent with Clean Air Act and EPA regulatory requirements. The EPA is publishing this rule without prior proposal because the Agency views this as a noncontroversial submittal and anticipates no adverse comments. However, in the proposed rules section of this Federal Register publication, EPA is publishing a separate document that will serve as the proposal to approve the SIP revision should adverse comments be filed. This rule will be effective October 7, 2002, without further notice unless the Agency receives adverse comments by September 9, 2002.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on October 7, 2002, and no further action will be taken on the proposed rule. Please note that if we receive adverse comment on an amendment, paragraph, or section of this rule and if that provision may be severed from the remainder of the rule, we may adopt as final those provisions of the rule that are not the subject of an adverse comment.

IV. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 7, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Lead, Nitrogen dioxide, Ozone, Particulate matter, Reporting and recordkeeping requirements, Sulfur oxides, Volatile organic compounds.

Dated: July 10, 2002.
A. Stanley Meiburg,
Acting Regional Administrator, Region 4.

PART 52—[AMENDED]

1. The authority for citation for part 52 continues to read as follows:

Authority: 42 U.S.C. 7401 et seq.

Subpart II—North Carolina

2. In the table in § 52.1770(c), the table is designated as Table 1 and amended as follows:

b. Under subchapter 2D by revising entries: .0501, .0601, .0602, .0604, .0605, .0607, .0610, and .0903;

c. Under subchapter 2D by adding in numerical order a new entry for .0611, .0612, .0613, .0614, and .0615.

d. Under subchapter 2Q by revising entries .0109, .0803, .0805, .0806, and .0807.

d. Under subchapter 2Q by adding in numerical order a new entry for .0316, .0317 and .0808.

§ 52.1770 Identification of plan.

* * * * *

(c) * * *

TABLE 1.—EPA APPROVED NORTH CAROLINA REGULATIONS
State citation | Title/subject | State effective date | EPA approval date | Comments
Subchapter 2D Air Pollution Control Requirements
* * * * * * *
Section .0500 Emission Control Standards
Sect. .0501 | Compliance With Emission Control Standards | 04/01/01 | August 8, 2002.
* * * * * * *
Section .0600 Air Contaminants; Monitoring, Reporting
Sect. .0601 | Monitoring: Recordkeeping: Reporting | 04/01/99 | August 8, 2002.
Sect. .0602 | Definitions | 04/01/99 | August 8, 2002.
Sect. .0604 | Exceptions to Monitoring and Reporting Requirements | 04/01/99 | August 8, 2002.
Sect. .0605 | General Recordkeeping and Reporting Requirements | 04/01/99 | August 8, 2002.
* * * * * * *
Sect. .0607 | Large Wood and Wood-Fossil Fuel Combination Units | 04/01/99 | August 8, 2002.
* * * * * * *
Sect. .0610 | Federal Monitoring Requirements | 04/01/99 | August 8, 2002.
Sect. .0611 | Monitoring Emissions From Other Sources | 04/01/99 | August 8, 2002.
Sect. .0612 | Alternative Monitoring and Reporting Procedures | 04/01/99 | August 8, 2002.
Sect. .0613 | Quality Assurance Program | 04/01/99 | August 8, 2002.
Sect. .0614 | Compliance Assurance Monitoring | 04/01/99 | August 8, 2002.
Sect. .0615 | Delegation | 04/01/99 | August 8, 2002.
* * * * * * *
Section .0900 Volatile Organic Compounds
* * * * * * *
Sect. .0903 | Recordkeeping: Reporting: Monitoring | 04/01/99 | August 8, 2002.
* * * * * * *
Subchapter 2Q Air Quality Permits
Section .0100 General Provisions
* * * * * * *
Sect. .0109 | Compliance Schedule for Previously Exempted Activities | 04/01/01 | August 8, 2002.
* * * * * * *
Section .0300 Construction and Operating Permits
* * * * * * *
Sect. .0316 | Administrative Permit Amendments | 04/01/01 | August 8, 2002.
Sect. .0317 | Avoidance Conditions | 04/01/01 | August 8, 2002.
* * * * * * *
Section .0800 Exclusionary Rules
Sect. .0803 | Coating, Solvent Cleaning, Graphic Arts Design | 04/01/01 | August 8, 2002.
* * * * * * *
Sect. .0805 | Grain Elevators | 04/01/01 | August 8, 2002.
Sect. .0806 | Cotton Gins | 04/01/01 | August 8, 2002.
Sect. .0807 | Emergency Generators | 04/01/01 | August 8, 2002.
Sect. .0808 | Peak Shaving Generators | 04/01/01 | August 8, 2002.

* * * * *

[FR Doc. 02-19435 Filed 8-7-02; 8:45 am]

BILLING CODE 6560-50-P